DEPARTMENT OF COMMERCE

International Trade Administration

[A-570-901]

Certain Lined Paper Products From the People's Republic of China: Notice of Preliminary Results of the Antidumping Duty Administrative Review

AGENCY: Import Administration, International Trade Administration, Department of Commerce.

SUMMARY: The Department of Commerce (“the Department”) is conducting the second administrative review of the antidumping duty order on certain lined paper products (“CLPP”) from the People's Republic of China (“PRC”) with respect to two companies: the Watanabe Group, which consists of Watanabe Paper Products (“Shanghai”) Co., Ltd., Watanabe Paper Products (“Lingqing”) Co., Ltd., and Hotrock Stationery (“Shenzhen”) Co., Ltd. (collectively, “the Watanabe Group”) and Shanghai Lian Li Paper Products Co., Ltd. (“Lian Li”). The period of review (“POR”) is September 1, 2007, through August 31, 2008. See Initiation of Antidumping and Countervailing Duty Administrative Reviews and Deferral of Administrative Review, 73 FR 64305 (October 29, 2008) (“Notice of Initiation”). On June 4, 2009, the Department published its intent to rescind this administrative review in part with respect to Lian Li. See Certain Lined Paper Products From the People's Republic of China: Notice of Intent to Rescind, In Part, Antidumping Duty Administrative Review and Extension of Time Limits for Preliminary Results of Antidumping Duty Administrative Review, 74 FR 26840 (June 4, 2009) (“Notice of Intent to Rescind and Prelim Extension”). If these preliminary results are adopted in our final results of this review, we will instruct U.S. Customs and Border Protection (“CBP”) to assess antidumping duties on all appropriate entries of subject merchandise during the POR.

Interested parties are invited to comment on these preliminary results. We intend to issue the final results no later than 120 days from the date of publication of this notice, pursuant to section 751(a)(3)(A) of the Tariff Act of 1930, as amended (“the Act”).

DATES: Effective Date: July 24, 2009.

FOR FURTHER INFORMATION CONTACT: Joy Zhang or Victoria Cho, AD/CVD Operations, Office 3, Import Administration, International Trade Administration, Department of Commerce, 14th Street and Constitution Avenue, NW., Washington, DC 20230; telephone: (202) 482-1168 or (202) 482-5075, respectively.

SUPPLEMENTARY INFORMATION:

Background

On September 28, 2006, the Department published in the Federal Register an antidumping duty order on CLPP from the PRC.¹ On September 2, 2008, the Department published a notice of opportunity to request an administrative review of the antidumping duty order on CLPP from the PRC. See Antidumping or Countervailing Duty Order, Finding, or Suspended Investigation; Opportunity To Request Administrative Review, 73 FR 51272 (September 2, 2008). On September 30, 2008, the Association of American School Paper Suppliers, a domestic interested party and the petitioner in the underlying investigation (“Petitioner”), requested that the Department conduct an administrative review of the Watanabe Group and Lian Li.

¹ See Notice of Amended Final Determination of Sales at Less Than Fair Value: Certain Lined Paper Products from the People's Republic of China; Notice of Antidumping Duty Orders: Certain Lined Paper Products from India, Indonesia and the People's Republic of China; and Notice of Countervailing Duty Orders: Certain Lined Paper Products from India and Indonesia, 71 FR 56949 (September 28, 2006).

On October 29, 2008, the Department initiated this review with respect to both requested companies. See Notice of Initiation. On November 13, 2008, Lian Li submitted a letter certifying that it did not have any shipments of subject merchandise during the POR. On January 29, 2009, Lian Li submitted product samples of the merchandise it exported to the United States during the POR, which Lian Li claimed were non-subject merchandise. On March 4, 2009, counsel for petitioner inspected Lian Li's product samples. See Memorandum to the File from Joy Zhang titled “Inspecting the Product Samples by Counsel for the Association of American School Paper Supplies,” dated March 4, 2009.

On June 4, 2009, the Department published a notice extending the deadline for the preliminary results for 120 days to September 30, 2009. In this notice the Department also published its intent to rescind this administrative review in part with respect to Lian Li. See Notice of Intent to Rescind and Prelim Extension, 74 FR 26840 (June 4, 2009).

On December 2, 2008, the Department issued an antidumping questionnaire to the Watanbe Group. On January 8, 2009, the Watanbe Group submitted a letter stating that it did not export for consumption in the United States lined paper products subject to the scope of the antidumping order of CLPP during the POR. See the Watanabe Group's January 8, 2009, submission at 1. The Department conducted a CBP data query on December 3, 2008. On February 2, 2009, the Department released the results of the Department's internal CBP data query with respect to the Watanabe Group's shipments of subject merchandise to the United States during the POR to the interested parties under the Department's December 18, 2008, administrative protective order (“APO”) in this segment of the proceeding, and requested that the Watanabe Group respond to the Department's antidumping questionnaire. On March 11, 2009, the Department released to the interested parties under APO CBP entry documentation covering the Watanabe Group's shipments, which indicated entries of subject merchandise during the POR for which the Watanabe Group was the producer and/or exporter. On March 18, 2009, the Watanabe Group submitted a letter to the Department, claiming that the shipments in question are either outside the scope of the antidumping order, outside of the POR based on the Department's date of sale methodology, or both, and therefore not subject to the administrative review. See the Watanabe Group's March 18, 2009, submission at 3.

In a letter to the Watanabe Group on March 26, 2009, the Department explained that the Department's antidumping questionnaire requires respondents to report sales of subject merchandise entered for consumption during the POR, and that because there were entries of the Watanabe Group's merchandise during the POR, the Watanabe Group is required to fully respond to the Department's antidumping questionnaire. See Letter from James Terpstra, Program Manager, AD/CVD, Office 3, Import Administration to the Watanabe Group, dated March 26, 2009. The Watanabe Group submitted a response on April 9, 2009, which only answered three questions of Section C of the Department's multi-faceted antidumping questionnaire with respect to the date of sales, claiming that the Watanabe Group “is responding to the best of its ability for the relevant parts of the antidumping questionnaire.” The Watanabe Group reiterated that it did not export subject merchandise to the United States during the POR. See the Watanabe Group's April 9, 2009, submission at 2. The Watanabe Group stated that its certification of no sales was based on the date of the invoice for export sales. Id. at 2-3.

On April 22, 2009, the Department sent a letter to the Watanabe Group reiterating its request that the Watanabe Group respond fully to the Department's antidumping questionnaire. The letter explained again the authority under which the Department is requiring responses. Namely, section 351.213(e) of the Department's regulations gives the Department flexibility by stating that the review “will cover, as appropriate, entries, exports, or sales * * *” Section 751(a)(2)(A) of the Tariff Act of 1930, as amended (“the Act”) provides that where a request for review has been received and a review has been initiated, the Department shall perform a dumping calculation for each entry during the POR. See Letter from James Terpstra, Program Manager, AD/CVD, Office 3, Import Administration to the Watanabe Group, dated April 22, 2009, (the Department's April 22, 2009 letter) at 1. The letter instructed that for sales based on export price (“EP”), if the Watanabe Group did not know the entry dates, the Watanabe Group should report each transaction involving merchandise sold and/or shipped during the period June 1, 2007, through August 31, 2008. Id. at 2. The letter further advised the Watanabe Group that information submitted after the deadline may result in the use of facts available pursuant to section 776(c) of the Act. On May 1, 2009, the Watanabe Group requested an extension of time to respond to the Department's questionnaire. See the Watanabe Group's May 1, 2009, submission at 1. On May 5, 2009, the Department granted the Watanabe Group's request in full; specifically, an extension until May 20, 2009, to file its Section A response and an extension until June 3, 2009, to file its Sections C and D response.

On May 20, 2009, counsel for the Watanabe Group informed the Department that the Watanabe Group had decided that it would not submit a response to the Department's questionnaire. See Memorandum to the File from James Terpstra titled “Watanabe Telephone Call,” dated June 1, 2009. On June 3, 2009, the Watanabe Group notified the Department in writing that it was not responding to Sections A, C and D of the antidumping questionnaire because it had explained and certified on the record that it did not sell subject merchandise for export to the United States during the POR based on its understanding of the term “sales” as defined under the antidumping law. See the Watanabe Group's June 3, 2009, submission at 2.

On June 10, 2009, Petitioner filed comments on the Watanabe Group's June 3, 2009, letter, urging the Department to respond to the Watanabe Group's failure to cooperate by expediting the preliminary results and base the Watanabe Group's margin on adverse facts available (“AFA”). On June 10, 2009, Petitioner also filed a letter requesting that the Department expedite the preliminary and final results for this administrative review. Petitioner stated that the Department extended the period of time for completion of the preliminary results of this review until no later than September 30, 2009, to accommodate the Watanabe Group's extension request and to permit sufficient time to analyze its forthcoming response. See Notice of Intent to Rescind and Prelim Extension. Petitioner contends that because the Watanabe Group has affirmatively stated that it would not respond to the questionnaire, the Department should immediately issue a preliminary determination based on adverse inferences.

Period of Review

The POR covered by this review is September 1, 2007, through August 31, 2008.

Scope of the Order

The scope of this order includes certain lined paper products, typically school supplies (for purposes of this scope definition, the actual use of or labeling these products as school supplies or non-school supplies is not a defining characteristic) composed of or including paper that incorporates straight horizontal and/or vertical lines on ten or more paper sheets (there shall be no minimum page requirement for looseleaf filler paper) including but not limited to such products as single- and multi-subject notebooks, composition books, wireless notebooks, looseleaf or glued filler paper, graph paper, and laboratory notebooks, and with the smaller dimension of the paper measuring 6 inches to 15 inches (inclusive) and the larger dimension of the paper measuring 8¾ inches to 15 inches (inclusive). Page dimensions are measured size (not advertised, stated, or “tear-out” size), and are measured as they appear in the product (i.e., stitched and folded pages in a notebook are measured by the size of the page as it appears in the notebook page, not the size of the unfolded paper). However, for measurement purposes, pages with tapered or rounded edges shall be measured at their longest and widest points. Subject lined paper products may be loose, packaged or bound using any binding method (other than case bound through the inclusion of binders board, a spine strip, and cover wrap). Subject merchandise may or may not contain any combination of a front cover, a rear cover, and/or backing of any composition, regardless of the inclusion of images or graphics on the cover, backing, or paper. Subject merchandise is within the scope of this order whether or not the lined paper and/or cover are hole punched, drilled, perforated, and/or reinforced. Subject merchandise may contain accessory or informational items including but not limited to pockets, tabs, dividers, closure devices, index cards, stencils, protractors, writing implements, reference materials such as mathematical tables, or printed items such as sticker sheets or miniature calendars, if such items are physically incorporated, included with, or attached to the product, cover and/or backing thereto.

Specifically excluded from the scope of this order are:

• Unlined copy machine paper;

• Writing pads with a backing (including but not limited to products commonly known as “tablets,” “note pads,” “legal pads,” and “quadrille pads”), provided that they do not have a front cover (whether permanent or removable). This exclusion does not apply to such writing pads if they consist of hole-punched or drilled filler paper;

• Three-ring or multiple-ring binders, or notebook organizers incorporating such a ring binder provided that they do not include subject paper;

• Index cards;

• Printed books and other books that are case bound through the inclusion of binders board, a spine strip, and cover wrap;

• Newspapers;

• Pictures and photographs;

• Desk and wall calendars and organizers (including but not limited to such products generally known as “office planners,” “time books,” and “appointment books”);

• Telephone logs;

• Address books;

• Columnar pads & tablets, with or without covers, primarily suited for the recording of written numerical business data;

• Lined business or office forms, including but not limited to: Pre-printed business forms, lined invoice pads and paper, mailing and address labels, manifests, and shipping log books;

• Lined continuous computer paper;

• Boxed or packaged writing stationary (including but not limited to products commonly known as “fine business paper,” “parchment paper”, and “letterhead”), whether or not containing a lined header or decorative lines;

• Stenographic pads (“steno pads”), Gregg ruled (“Gregg ruling” consists of a single- or double-margin vertical ruling line down the center of the page. For a six-inch by nine-inch stenographic pad, the ruling would be located approximately three inches from the left of the book), measuring 6 inches by 9 inches;

Also excluded from the scope of this order are the following trademarked products:

• FlyTM lined paper products: A notebook, notebook organizer, loose or glued note paper, with papers that are printed with infrared reflective inks and readable only by a Fly™ pen-top computer. The product must bear the valid trademark Fly™ (products found to be bearing an invalidly licensed or used trademark are not excluded from the scope).

• ZwipesTM: A notebook or notebook organizer made with a blended polyolefin writing surface as the cover and pocket surfaces of the notebook, suitable for writing using a specially-developed permanent marker and erase system (known as a Zwipes™ pen). This system allows the marker portion to mark the writing surface with a permanent ink. The eraser portion of the marker dispenses a solvent capable of solubilizing the permanent ink allowing the ink to be removed. The product must bear the valid trademark Zwipes™ (products found to be bearing an invalidly licensed or used trademark are not excluded from the scope).

• FiveStar®AdvanceTM: A notebook or notebook organizer bound by a continuous spiral, or helical, wire and with plastic front and rear covers made of a blended polyolefin plastic material joined by 300 denier polyester, coated on the backside with PVC (poly vinyl chloride) coating, and extending the entire length of the spiral or helical wire. The polyolefin plastic covers are of specific thickness; front cover is 0.019 inches (within normal manufacturing tolerances) and rear cover is 0.028 inches (within normal manufacturing tolerances). Integral with the stitching that attaches the polyester spine covering, is captured both ends of a 1″ wide elastic fabric band. This band is located 2⅜″ from the top of the front plastic cover and provides pen or pencil storage. Both ends of the spiral wire are cut and then bent backwards to overlap with the previous coil but specifically outside the coil diameter but inside the polyester covering. During construction, the polyester covering is sewn to the front and rear covers face to face (outside to outside) so that when the book is closed, the stitching is concealed from the outside. Both free ends (the ends not sewn to the cover and back) are stitched with a turned edge construction. The flexible polyester material forms a covering over the spiral wire to protect it and provide a comfortable grip on the product. The product must bear the valid trademarks FiveStar®Advance™ (products found to be bearing an invalidly licensed or used trademark are not excluded from the scope).

FiveStar FlexTM: A notebook, a notebook organizer, or binder with plastic polyolefin front and rear covers joined by 300 denier polyester spine cover extending the entire length of the spine and bound by a 3-ring plastic fixture. The polyolefin plastic covers are of a specific thickness; front cover is 0.019 inches (within normal manufacturing tolerances) and rear cover is 0.028 inches (within normal manufacturing tolerances). During construction, the polyester covering is sewn to the front cover face to face (outside to outside) so that when the book is closed, the stitching is concealed from the outside. During construction, the polyester cover is sewn to the back cover with the outside of the polyester spine cover to the inside back cover. Both free ends (the ends not sewn to the cover and back) are stitched with a turned edge construction. Each ring within the fixture is comprised of a flexible strap portion that snaps into a stationary post which forms a closed binding ring. The ring fixture is riveted with six metal rivets and sewn to the back plastic cover and is specifically positioned on the outside back cover. The product must bear the valid trademark FiveStar Flex™ (products found to be bearing an invalidly licensed or used trademark are not excluded from the scope). Merchandise subject to this order is typically imported under headings 4820.10.2020, 4820.10.2030, 4820.10.2040, 4820.10.2050, 4820.10.2060, 4810.22.5044, 4811.90.9090, 4820.10.2010 of the Harmonized Tariff Schedule of the United States (“HTSUS”). The HTSUS headings are provided for convenience and customs purposes; however, the written description of the scope of this order is dispositive.

Separate Rates

In the Notice of Initiation, the Department notified parties of its policy on separate-rate eligibility in proceedings involving non-market economy (NME) countries. See Notice of Initiation.

In proceedings involving NME countries, the Department has a rebuttable presumption that all companies within the country are subject to government control and thus should be assessed a single antidumping duty rate. It is the Department's policy to assign all exporters of subject merchandise in an NME country this single rate unless an exporter can demonstrate that it is sufficiently independent so as to be entitled to a separate rate. Exporters can demonstrate this independence through the absence of both de jure and de facto governmental control over export activities. The Department analyzes each entity exporting the subject merchandise under a test arising from the Notice of Final Determination of Sales at Less Than Fair Value: Sparklers from the People's Republic of China, 56 FR 20588 (May 6, 1991), as further developed in Notice of Final Determination of Sales at Less Than Fair Value: Silicon Carbide from the People's Republic of China, 59 FR 22585 (May 2, 1994). However, if the Department determines that a company is wholly foreign-owned or located in a market economy, then a separate rate analysis is not necessary to determine whether it is independent from government control. It is the Department's practice to require a party to submit evidence that it operates independently of the State-controlled entity in each segment of a proceeding in which it requests separate rate status. The process requires exporters to submit a separate-rate status application. See Tapered Roller Bearings and Parts Thereof, Finished or Unfinished, from the People's Republic of China: Final Results of 2005-2006 Administrative Review and Partial Rescission of Review, 72 FR 56724 (October 4, 2007), Peer Bearing Co. Changshan v. United States, 587 F.Supp. 2d 1319, 1324-25 (CIT 2008) (affirming the Department's determination in that review). The Watanabe Group, which was selected as a mandatory respondent, did not respond to the Department's request for a separate rate certification on the record of this review, nor did it respond to the Department's questionnaire. Thus, the Watanabe Group has not demonstrated that it operates free from government control. Thus, we find that for purposes of this review, the Watanabe Group is part of the PRC-wide entity.

Use of Adverse Facts Available

Section 776(a) of the Act provides that, the Department shall apply “facts otherwise available” if (1) necessary information is not on the record, or (2) an interested party or any other person (A) withholds information that has been requested, (B) fails to provide information within the deadlines established, or in the form and manner requested by the Department, subject to subsections (c)(1) and (e) of section 782 of the Act, (C) significantly impedes a proceeding, or (D) provides information that cannot be verified as provided by section 782(i) of the Act.

Where the Department determines that a response to a request for information does not comply with the request, section 782(d) of the Act provides that the Department will so inform the party submitting the response and will, to the extent practicable, provide that party the opportunity to remedy or explain the deficiency. If the party fails to remedy the deficiency within the applicable time limits and subject to section 782(e) of the Act, the Department may disregard all or part of the original and subsequent responses, as appropriate. Section 782(e) of the Act provides that the Department “shall not decline to consider information that is submitted by an interested party and is necessary to the determination but does not meet all applicable requirements established by the administering authority” if the information is timely, can be verified, is not so incomplete that it cannot be used, and if the interested party acted to the best of its ability in providing the information. Where all of these conditions are met, the statute requires the Department to use the information supplied if it can do so without undue difficulties.

Section 776(b) of the Act further provides that the Department may use an adverse inference in applying the facts otherwise available when a party has failed to cooperate by not acting to the best of its ability to comply with a request for information. Such an adverse inference may include reliance on information derived from the petition, the final determination, a previous administrative review, or other information placed on the record.

Section 776(c) of the Act provides that, when the Department relies on secondary information rather than on information obtained in the course of an investigation or review, it shall, to the extent practicable, corroborate that information from independent sources that are reasonably at its disposal. Secondary information is defined as “{i}nformation derived from the petition that gave rise to the investigation or review, the final determination concerning the subject merchandise, or any previous review under section 751 concerning the subject merchandise.” See Statement of Administrative Action, reprinted in H.R. Doc. No. 103-216, at 870 (1994) (“SAA”). Corroborate means that the Department will satisfy itself that the secondary information to be used has probative value. Id. To corroborate secondary information, the Department will, to the extent practicable, examine the reliability and relevance of the information to be used.

Application of Total Adverse Facts Available

The Watanabe Group

As discussed above, the Watanabe Group submitted an incomplete response to the Department's original questionnaire, claiming it did not sell subject merchandise to the United States during the POR, and therefore, it would not respond additionally to Sections A, C and D of the Department's questionnaire. See the Watanabe Group's June 3, 2009, submission at 1. As noted above, the Department explained in its March 26, and April 22, 2009, letters the scope of the review and the Department's legal authority to require responses covering entries during the POR. In response to the Watanabe Group's request, the Department extended its deadline for the Watanabe Group's response. However, the Watanabe Group reported to the Department that it did not intend to submit additional responses.

By failing to respond to the Department's requests for information, the Watanabe Group has not demonstrated its eligibility for a separate rate; i.e., the Watanabe Group has not proven it is free from the government control. Therefore, the Watanabe Group is considered part of the PRC-wide entity. Additionally, because the Watanabe Group is now part of the PRC-wide entity, the PRC-wide entity is now under review.

The PRC-Wide Entity

As explained above, the PRC-wide entity, which includes the Watanabe Group, withheld necessary information by failing to supply the requested information on its shipments of subject merchandise to the United States in a timely manner. Therefore, it is appropriate to apply a dumping margin for the PRC-wide entity using facts available on the record. See section 776(a) of the Act. In addition, because the PRC-wide entity failed to cooperate to the best of its ability, we find that an adverse inference is appropriate. See section 776(b) of the Act.

Selection of Adverse Facts Available Rate

In deciding which facts to use as AFA, section 776(b) of the Act and 19 CFR 351.308(c)(1) provide that the Department may rely on information derived from (1) the petition, (2) a final determination in the investigation, (3) any previous review or determination, or (4) any other information placed on the record. In selecting a rate for AFA, the Department selects a rate that is sufficiently adverse “as to effectuate the purpose of the facts available rule to induce respondents to provide the Department with complete and accurate information in a timely manner.” See Circular Welded Austenitic Stainless Pressure Pipe from the People's Republic of China: Final Determination of Sales at Less Than Fair Value, 74 FR 4913 (January 28, 2009)). Further, it is the Department's practice to select a rate that ensures “that the party does not obtain a more favorable result by failing to cooperate than if it had cooperated fully.” See SAA at 870; see also Brake Rotors From the People's Republic of China: Final Results and Partial Rescission of the Seventh Administrative Review; Final Results of the Eleventh New Shipper Review, 70 FR 69937, 69939 (November 18, 2005).

Generally, the Department finds that selecting the highest rate from any segment of the proceeding as AFA is appropriate. See, e.g., Certain Cased Pencils from the People's Republic of China; Notice of Preliminary Results of Antidumping Duty Administrative Review and Intent to Rescind in Part, 70 FR 76755, 76761 (December 28, 2005). The CIT and the Court of Appeals for the Federal Circuit (“Federal Circuit”) have affirmed decisions to select the highest margin from any prior segment of the proceeding as the AFA rate on numerous occasions. See Rhone Poulenc, Inc. v. United States, 899 F.2d 1185, 1190 (Fed. Cir. 1990) (Rhone Poulenc); NSK Ltd. v. United States, 346 F. Supp. 2d 1312, 1335 (CIT 2004) (upholding the application of an AFA rate which was the highest available dumping margin from a different respondent in an investigation); see also Kompass Food Trading Int'l v. United States, 24 CIT 678, 689 (July 31, 2000) (upholding the application of an AFA rate which was the highest available dumping margin from a different, fully cooperative respondent); and Shanghai Taoen International Trading Co., Ltd. v. United States, 360 F. Supp 2d 1339, 1348 (CIT 2005) (upholding the application of an AFA rate which was the highest available dumping margin from a different respondent in a previous administrative review).

As AFA, we have preliminarily assigned to the PRC-wide entity a rate of 258.21 percent, from the investigation of CLPP from the PRC, which is the highest rate on the record of all segments of this proceeding. See Notice of Amended Final Determination of Sales at Less Than Fair Value: Certain Lined Paper Products from the People's Republic of China; Notice of Antidumping Duty Orders: Certain Lined Paper Products from India, Indonesia and the People's Republic of China; and Notice of Countervailing Duty Orders: Certain Lined Paper Products from India and Indonesia, 71 FR 56949 (September 28, 2006). As explained below, this rate has been corroborated.

Corroboration of Secondary Information

Section 776(c) of the Act provides that, when the Department relies on secondary information rather than on information obtained in the course of an investigation or review, it shall, to the extent practicable, corroborate that information from independent sources that are reasonably at its disposal. Secondary information is defined as information derived from the petition that gave rise to the investigation or review, the final determination concerning the subject merchandise, or any previous review under section 751 of the Act concerning the subject merchandise. See SAA at 870. Corroborate means that the Department will satisfy itself that the secondary information to be used has probative value. Id. To corroborate secondary information, the Department will, to the extent practicable, examine the reliability and relevance of the information to be used. See Preliminary Results of Antidumping Duty Administrative Reviews and Partial Termination of Administrative Reviews: Tapered Roller Bearings and Parts Thereof, Finished and Unfinished from Japan, and Tapered Roller Bearings Four Inches or Less in Outside Diameter, and Components Thereof, from Japan, 61 FR 57391, 57392 (November 6, 1996) (unchanged in the final determination), Final Results of Antidumping Duty Administrative Reviews and Termination in Part: Tapered Roller Bearings and Parts Thereof, Finished and Unfinished from Japan, and Tapered Roller Bearings Four Inches or Less in Outside Diameter, and Components Thereof, from Japan, 62 FR 11825 (March 13, 1997). Independent sources used to corroborate such evidence may include, for example, published price lists, official import statistics and customs data, and information obtained from interested parties during the particular investigation. See Notice of Preliminary Determination of Sales at Less Than Fair Value: High and Ultra-High Voltage Ceramic Station Post Insulators from Japan, 68 FR 35627 (June 16, 2003) (unchanged in final determination) Notice of Final Determination of Sales at Less Than Fair Value: High and Ultra High Voltage Ceramic Station Post Insulators from Japan, 68 FR 62560

(November 5, 2003); and Notice of Final Determination of Sales at Less Than Fair Value: Live Swine From Canada, 70 FR 12181, 12183-84 (March 11, 2005).

The AFA rate selected here is from the investigation. This rate was calculated based on information contained in the petition, which was corroborated for the final determination. No additional information has been presented in the current review which calls into question the reliability of the information. Therefore, the Department finds that the information continues to be reliable.

Preliminary Results of Review

We preliminarily determine that the following margin exists for the period September 1, 2007, through August 31, 2008:

Producer/manufacturer | Weighted-average margin
PRC-Wide Rate (which includes the Watanabe Group) | 258.21%

Disclosure

The Department will disclose these preliminary results to the parties within five days of the date of publication of this notice in accordance with 19 CFR 351.224(b).

Comments

Interested parties are invited to comment on the preliminary results and may submit case briefs and/or written comments within 30 days of the date of publication of this notice. See 19 CFR 351.309(c)(ii). Rebuttal briefs, limited to issues raised in the case briefs, will be due five days later, pursuant to 19 CFR 351.309(d). Parties who submit case or rebuttal briefs in this proceeding are requested to submit with each argument (1) a statement of the issue, and (2) a brief summary of the argument. Parties are requested to provide a summary of the arguments not to exceed five pages and a table of statutes, regulations, and cases cited. Additionally, parties are requested to provide their case brief and rebuttal briefs in electronic format (e.g., Microsoft Word, pdf, etc.). Interested parties, who wish to request a hearing or to participate if one is requested, must submit a written request to the Assistant Secretary for Import Administration within 30 days of the date of publication of this notice. Requests should contain: (1) The party's name, address, and telephone number; (2) the number of participants; and (3) a list of issues to be discussed. See 19 CFR 351.310(c). Issues raised in the hearing will be limited to those raised in case and rebuttal briefs. The Department will issue the final results of this review, including the results of its analysis of issues raised in any such written briefs or at the hearing, if held, not later than 120 days after the date of publication of this notice.

Assessment Rates

Upon issuance of the final results, the Department will determine, and CBP shall assess, antidumping duties on all appropriate entries covered by this review. The Department intends to issue assessment instructions to CBP 15 days after the publication date of the final results of this review. We will instruct CBP to liquidate the Watanabe Group's appropriate entries at the PRC-wide rate of 258.21 percent.

Cash Deposit Requirements

The following cash deposit requirements will be effective upon publication of the notice of final results of the administrative review for all shipments of CLPP from the PRC entered, or withdrawn from warehouse, for consumption on or after the date of publication, as provided by section 751(a)(2)(C) of the Act: (1) For previously reviewed or investigated companies not listed above that have separate rates, the cash-deposit rate will continue to be the company-specific rate published for the most recent period; (2) for all other PRC exporters of subject merchandise, which have not been found to be entitled to a separate rate, the cash-deposit rate will be PRC-wide rate of 258.21 percent; and (3) for all non-PRC exporters of subject merchandise, the cash-deposit rate will be the rate applicable to the PRC exporter that supplied that non-PRC exporter. These deposit requirements, when imposed, shall remain in effect until further notice.

Notification to Importers

This notice serves as a preliminary reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

This administrative review and notice are in accordance with sections 751(a)(1) and 777(i) of the Act and 19 CFR 351.221(b)(4).

Dated: July 20, 2009.
Ronald K. Lorentzen,
Acting Assistant Secretary for Import Administration.

[FR Doc. E9-17716 Filed 7-23-09; 8:45 am]

BILLING CODE 3510-DS-P